DEPARTMENT OF ENERGY

Federal Energy Regulatory Commission

[Docket No. EL03-11-002, et al.]

Wisvest-Connecticut, LLC, et al.; Electric Rate and Corporate Filings

July 11, 2003.

The following filings have been made with the Commission. The filings are listed in ascending order within each docket classification.

[Docket No. EL03-11-002]

1. Wisvest-Connecticut, LLC v. ISO New England Inc.

Take notice that on July 7, 2003, the New England Power Pool (NEPOOL) Participants Committee and ISO New England Inc. (ISO-NE) submitted for filing changes to NEPOOL Market Rule and Procedure No. 11 in compliance with the Commission's order in Wisvest Connecticut, LLC v. ISO New England, Inc., 103 FERC § 61,302 (2003).

The NEPOOL Participants Committee and ISO-NE state that copies of these materials were sent to all persons identified on the service lists in the captioned proceedings, the NEPOOL Participants and the six New England state governors and regulatory commissions.

Comment Date: August 6, 2003.

[Docket No. ER03-949-001]

2. Commonwealth Edison Company

Take notice that on July 8, 2003, Commonwealth Edison Company (ComEd), tendered for filing a proposed amendment to its FERC Electric Service Tariff, Second Revised Vol. No. 5. ComEd states that the proposed changes eliminate from Schedule C the reference to use of power flow models “updated by MAIN.” ComEd also states that the proposed change simply identifies the power flow models as “updated.”

ComEd states that the change is necessary because as PJM takes over determining Available Transfer Capability (ATC), a preliminary phase leading to ComEd's integration into PJM, the power flow models used to determine ATC in some instances may not be updated by MAIN.

ComEd asserts that instead, PJM increasingly will be performing the updates of the power flow models. ComEd states that the models will be the same ones used before integration into PJM, but they will be updated by PJM rather than MAIN as the integration proceeds.

ComEd states that copies of the filing were served upon the public utility's jurisdictional customers, the Illinois Commerce Commission, and interveners in this docket.

Comment Date: July 29, 2003.

[Docket No. ER03-1041-000]

3. Southern Company Services, Inc.

Take notice that on July 8, 2003, Southern Company Services, Inc. (SCS), acting on behalf of Alabama Power Company, Georgia Power Company, Gulf Power Company, Mississippi Power Company, and Savannah Electric and Power Company (collectively Southern Companies), filed a Notice of Cancellation of Service Schedule A and Service Schedule GES of the Interchange Contract dated February 25, 1982 between Gulf States Utilities Company and Southern Companies (Southern Operating Companies' First Revised Rate Schedule FERC No. 59). SCS states that the cancellations were made pursuant to a bilateral amendment to the Interchange Contract.

Comment Date: July 29, 2003.

[Docket No. ER03-1042-000]

4. Midwest Independent Transmission System Operator, Inc.

Take notice that on July 8, 2003, the Midwest Independent Transmission System Operator, Inc. (Midwest ISO) pursuant to section 205 of the Federal Power Act and Section 35.12 of the Commission's regulations, 18 CFR 35.12 , submitted for filing an unexecuted Interconnection and Operating Agreement among American Transmission Company LLC , Edison Sault Electric Company and the Midwest ISO.

Midwest ISO states that a copy of this filing was served on American Transmission Company LLC and Edison Sault Electric Company.

Comment Date: July 29, 2003.

[Docket No. ER03-1043-000]

5. Southern Company Services, Inc.

Take notice that on July 8, 2003, Southern Company Services, Inc. (SCS), acting on behalf of Alabama Power Company, filed a Notice of Cancellation of the portions of the Interconnection Agreement dated May 5, 1980 between Alabama Electric Cooperative, Inc. and Alabama Power Company (Alabama Power Company's Rate Schedule FERC No. 145) that pertain to the supply of emergency service. SCS states that this cancellation was made pursuant to a bilateral amendment to the Interconnection Agreement.

Comment Date: July 29, 2003.

[Docket No. ER03-1044-000]

6. Midwest Independent Transmission System Operator, Inc.

Take notice that on July 8, 2003, the Midwest Independent Transmission System Operator, Inc. (Midwest ISO) pursuant to section 205 of the Federal Power Act and Section 35.12 of the Commission's regulations, 18 CFR 35.12, submitted for filing an unexecuted Interconnection and Operating Agreement among American Transmission Company LLC, Wisconsin Electric Power Company d/b/a We Energies, and Midwest ISO.

Midwest ISO states that a copy of this filing was served on American Transmission Company LLC and Wisconsin Electric Power Company d/b/a We Energies.

Comment Date: July 29, 2003.

[Docket No. ER03-1045-000]

7. Southern Company Services, Inc.

Take notice that on July 8, 2003, Southern Company Services, Inc. (SCS), acting on behalf of Alabama Power Company, Georgia Power Company, Gulf Power Company, Mississippi Power Company, and Savannah Electric and Power Company (collectively Southern Companies), filed a revised Interim Agreement for Network Integration Transmission Service and Complementary Services between the Southeastern Power Administration (SEPA) and SCS, as agent for Southern Companies (Rate Schedule FERC No. 400). SCS states that the revised Interim Agreement provides that SEPA may allocate additional capacity and energy to certain of its customers and Southern Companies will schedule those additional resources to those customers.

Comment Date: July 29, 2003.

[Docket No. ER03-1046-000]

8. California Independent System

Take notice that on July 8, 2003, the California Independent System Operator Corporation (ISO) submitted an amendment (Amendment No. 54) to the ISO Tariff. The ISO states that the proposed Tariff changes and clarifications in Amendment No. 54 further the Real Time Imbalance Energy Market design elements in Phase 1 of the ISO's Comprehensive Market Design 2002 (MD02) initiative and complement the market design changes that were implemented on October 30, 2002 as part of MD02 Phase 1A. The ISO states that copies of Amendment No. 54 has been served upon the Public Utilities Commission of California, the California Energy Commission, the California Electricity Oversight Board, all entitles with effective ISO Scheduling Coordinator agreements, and all parties in the proceeding in Docket No. ER02-1656-000.

Comment Date: July 29, 2003.

[Docket No. ER03-1048-000]

9. Midwest Independent Transmission System Operator, Inc.

Take notice that on July 8, 2003, the Midwest Independent Transmission System Operator, Inc. (Midwest ISO) pursuant to section 205 of the Federal Power Act and Section 35.12 of the Commission's regulations, 18 CFR 35.12, submitted for filing an unexecuted Interconnection and Operating Agreement among American Transmission Company LLC, Wisconsin Public Service Corporation and the Midwest ISO.

Midwest ISO states that a copy of this filing was served on American Transmission Company LLC and Wisconsin Public Service Corporation.

Comment Date: July 29, 2003.

[Docket No. ER03-1052-000]

10. The Green Power Connection

Take notice that on July 8, 2003, The Green Power Connection pursuant to Federal Power Act, 18 CFR 35.15 and 131.53, submitted for filing a Notice of Cancellation of its FERC market-based electric tariff filed in Docket No. ER97-3888.

The Green Power Connection states that copies of this filing have not been served on any party because it has not engaged in any sales of electric power or entered into any power or related contracts with any purchasers.

Comment Date: July 29, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-18314 Filed 7-17-03; 8:45 am]

BILLING CODE 6717-01-P